DEPARTMENT OF COMMERCE

International Trade Administration

[C-580-818]

Cold Rolled and Corrosion-Resistant Carbon Steel Plate From the Republic of Korea: Rescission of Countervailing Duty Administrative Review

AGENCY: Import Administration, International Trade Administration, Department of Commerce.

ACTION: Notice of Rescission of Countervailing Duty Administrative Review.

SUMMARY: On September 24, 1999, in response to a request from petitioner and respondents, the Department of Commerce initiated an administrative review of the countervailing duty order on cold rolled and corrosion-resistant carbon steel plate from the Republic of Korea. The review covers the period January 1, 1998 through December 31, 1998. In accordance with 19 CFR 351.213(d)(1), the Department is now rescinding this review because the petitioner and respondents have withdrawn their requests for review.

EFFECTIVE DATE: February 8, 2000.

FOR FURTHER INFORMATION CONTACT: Eric B. Greynolds or Tipten Troidl, AD/CVD Enforcement, Group II, Office VI, Import Administration, U.S. Department of Commerce, Room 4012, 14th Street and Constitution Avenue, N.W., Washington, D.C. 20230; telephone (202) 482-2786.

SUPPLEMENTARY INFORMATION: On August 31, 1999, the Department received requests for an administrative review of the countervailing duty order on cold rolled and corrosion-resistant carbon steel plate from the Republic of Korea from Weirton Steel Corporation (petitioner) and Pohang Iron & Steel Co., Ltd., Dongbu Steel Co., Ltd., and Union Steel Manufacturing Co., Ltd. (respondents), for the period January 1, 1998 through December 31, 1998. On October 1, 1999, the Department published in the Federal Register (64 FR 53318) a notice of “Initiation of Countervailing Duty Administrative Review” initiating the administrative review. On January 4, 2000, petitioner withdrew its request for review. On January 6, 2000, respondents withdrew their request for review.

The applicable regulation, 19 CFR 351.213(d)(1), states that if a party that requested an administrative review withdraws the request within 90 days of the date of publication of the notice of initiation of the requested review, the Secretary will rescind the review. In this case, the parties to the proceeding did not withdraw their requests within the 90 day period. However, our regulations state that the Secretary may extend the time limit if the Secretary decides that it is reasonable to do so. Since both parties have requested to withdraw and because their requests were made shortly after the 90 day period, we find it reasonable to accept parties' withdrawals of their requests for review. No other interested party requested a review, and we have received no other submissions regarding parties' withdrawals of their requests for review. Therefore, we are rescinding this review of the countervailing duty order on cold rolled and corrosion-resistant carbon steel flat products from the Republic of Korea covering the period January 1, 1998, through December 31, 1998.

This notice is published in accordance with 19 CFR 351.213(d)(4).

Dated: January 27, 2000.
Holly A. Kuga,
Acting Deputy Assistant Secretary for Import Administration.

[FR Doc. 00-2842 Filed 2-7-00; 8:45 am]

BILLING CODE 3510-DS-P